DEPARTMENT OF ENERGY

Federal Energy Regulatory Commission

Combined Notice of Filings

Take notice that the Commission has received the following Natural Gas Pipeline Rate and Refund Report filings:

Filings Instituting Proceedings

Docket Numbers: RP16-976-000.

Applicants: Natural Gas Pipeline Company of America.

Description: Section 4(d) rate filing per 154.204: Madill Gas Processing Negotiated Rate to be effective 6/27/2016.

Filed Date: 5/27/16.

Accession Number: 20160527-5099.

Comments Due: 5 p.m. ET 6/8/16.

Docket Numbers: RP16-977-000.

Applicants: Cimarron River Pipeline, LLC.

Description: Section 4(d) rate filing per 154.204: Negotiated Rates 2016-05 to be effective 5/27/2016.

Filed Date: 5/27/16.

Accession Number: 20160527-5109.

Comments Due: 5 p.m. ET 6/8/16.

Docket Numbers: RP16-978-000.

Applicants: Ruby Pipeline, L.L.C.

Description: Section 4(d) rate filing per 154.403(d)(2): FLU and EPC to be effective 7/1/2016.

Filed Date: 5/27/16.

Accession Number: 20160527-5143.

Comments Due: 5 p.m. ET 6/8/16.

Docket Numbers: RP16-979-000.

Applicants: Algonquin Gas Transmission, LLC.

Description: Section 4(d) rate filing per 154.204: AGT Cleanup Filing to be effective 7/1/2016.

Filed Date: 5/27/16.

Accession Number: 20160527-5172.

Comments Due: 5 p.m. ET 6/8/16.

Docket Numbers: RP16-980-000.

Applicants: Algonquin Gas Transmission, LLC.

Description: Section 4(d) rate filing per 154.204: Negotiated Rate—Keyspan Release to Chief 791677 to be effective 6/1/2016.

Filed Date: 5/27/16.

Accession Number: 20160527-5188.

Comments Due: 5 p.m. ET 6/8/16.

Docket Numbers: RP16-981-000.

Applicants: Portland Natural Gas Transmission System.

Description: Section 4(d) rate filing per 154.204: Available Capacity ROFR Revisions to be effective 6/27/2016.

Filed Date: 5/27/16.

Accession Number: 20160527-5189.

Comments Due: 5 p.m. ET 6/8/16.

Docket Numbers: RP16-982-000.

Applicants: Algonquin Gas Transmission, LLC.

Description: Section 4(d) rate filing per 154.204: Negotiated Rate—Col Gas Release to BBPC 791665 to be effective 6/1/2016.

Filed Date: 5/27/16.

Accession Number: 20160527-5206.

Comments Due: 5 p.m. ET 6/8/16.

Docket Numbers: RP16-983-000.

Applicants: Algonquin Gas Transmission, LLC.

Description: Section 4(d) rate filing per 154.204: Negotiated Rate—BUG Release to Chief Energy 791678 to be effective 6/1/2016.

Filed Date: 5/27/16.

Accession Number: 20160527-5208.

Comments Due: 5 p.m. ET 6/8/16.

Docket Numbers: RP16-984-000.

Applicants: Algonquin Gas Transmission, LLC.

Description: Section 4(d) rate filing per 154.204: Negotiated Rate—Baystate Release to BBPC 791586 to be effective 6/1/2016.

Filed Date: 5/27/16.

Accession Number: 20160527-5213.

Comments Due: 5 p.m. ET 6/8/16.

Docket Numbers: RP16-985-000.

Applicants: Colorado Interstate Gas Company, L.L.C.

Description: Section 4(d) rate filing per 154.403(d)(2): FL&U effective July 1, 2016 to be effective 7/1/2016.

Filed Date: 5/27/16.

Accession Number: 20160527-5215.

Comments Due: 5 p.m. ET 6/8/16.

Docket Numbers: RP16-986-000.

Applicants: Alliance Pipeline L.P.

Description: Section 4(d) rate filing per 154.204: Correct Language On Sheet 251 to be effective 4/1/2016.

Filed Date: 5/27/16.

Accession Number: 20160527-5216.

Comments Due: 5 p.m. ET 6/8/16.

Docket Numbers: RP16-987-000.

Applicants: Algonquin Gas Transmission, LLC.

Description: Section 4(d) rate filing per 154.204: Negotiated Rate—BBPC Release to EDF 791679 to be effective 6/1/2016.

Filed Date: 5/27/16.

Accession Number: 20160527-5219.

Comments Due: 5 p.m. ET 6/8/16.

Docket Numbers: RP16-989-000.

Applicants: WPX Energy Marketing, LLC, Citadel NGPE LLC.

Description: Joint Petition of WPX Energy Marketing, LLC and Citadel NGPE LLC for Temporary Waivers of Capacity Release Regulations, et al. and Request for Shortened Comment Period under RP16-989.

Filed Date: 5/27/16.

Accession Number: 20160527-5222.

Comments Due: 5 p.m. ET 6/3/16

Docket Numbers: RP16-1000-000.

Applicants: Columbia Gas Transmission, LLC.

Description: Section 4(d) rate filing per 154.204: Negotiated & Non-Conforming Service Agreement—Kentucky Power to be effective 6/1/2016.

Filed Date: 5/31/16.

Accession Number: 20160531-5595.

Comments Due: 5 p.m. ET 6/13/16.

Docket Numbers: RP16-1001-000.

Applicants: Discovery Gas Transmission LLC.

Description: Section 4(d) rate filing per 154.403(d)(2): 2016 FL&U Submittal to be effective 7/1/2016.

Filed Date: 5/31/16.

Accession Number: 20160531-5604.

Comments Due: 5 p.m. ET 6/13/16.

Docket Numbers: RP16-1002-000.

Applicants: Algonquin Gas Transmission, LLC.

Description: Section 4(d) rate filing per 154.204: Non-Conforming Agreements—Colonial 510025 and Narragansett 510075 to be effective 6/1/2016.

Filed Date: 5/31/16.

Accession Number: 20160531-5614.

Comments Due: 5 p.m. ET 6/13/16.

Docket Numbers: RP16-988-000.

Applicants: Transcontinental Gas Pipe Line Company.

Description: Section 4(d) rate filing per 154.204: Negotiated Rates—Cherokee AGL—Replacement Shippers—Jun 2016 to be effective 6/1/2016.

Filed Date: 5/31/16.

Accession Number: 20160531-5000.

Comments Due: 5 p.m. ET 6/13/16.

Docket Numbers: RP16-990-000.

Applicants: Texas Gas Transmission, LLC.

Description: Section 4(d) rate filing per 154.204: Neg Rate Agmts (Munford 20593 and Poplar Grove 20592) to be effective 6/1/2016.

Filed Date: 5/31/16.

Accession Number: 20160531-5186.

Comments Due: 5 p.m. ET 6/13/16.

Docket Numbers: RP16-991-000.

Applicants: Texas Eastern Transmission, LP.

Description: Section 4(d) rate filing per 154.204: NJRES 910531 6-1-2016 Negotiated Rate to be effective 6/1/2016.

Filed Date: 5/31/16.

Accession Number: 20160531-5289.

Comments Due: 5 p.m. ET 6/13/16.

Docket Numbers: RP16-992-000.

Applicants: Gulf South Pipeline Company, LP.

Description: Section 4(d) rate filing per 154.204: Cap Rel Neg Rate Agmt (Willmut 35221 to BP 46451) to be effective 6/1/2016.

Filed Date: 5/31/16.

Accession Number: 20160531-5369.

Comments Due: 5 p.m. ET 6/13/16.

Docket Numbers: RP16-993-000.

Applicants: Gulf South Pipeline Company, LP.

Description: Section 4(d) rate filing per 154.204: Cap Rel Neg Rate Agmt (Atlanta 8438 to various eff 6-1-16) to be effective 6/1/2016.

Filed Date: 5/31/16.

Accession Number: 20160531-5370.

Comments Due: 5 p.m. ET 6/13/16.

Docket Numbers: RP16-994-000.

Applicants: Gulf South Pipeline Company, LP.

Description: Section 4(d) rate filing per 154.204: Cap Rel Neg Rate Agmts (Encana 37663 to Conoco 46456, Texla 46469) to be effective 6/1/2016.

Filed Date: 5/31/16.

Accession Number: 20160531-5373.

Comments Due: 5 p.m. ET 6/13/16.

Docket Numbers: RP16-995-000.

Applicants: Gulf South Pipeline Company, LP.

Description: Section 4(d) rate filing per 154.204: Cap Rel Neg Rate Agmt (Petrohawk 41455 to Texla 46493) to be effective 6/1/2016.

Filed Date: 5/31/16.

Accession Number: 20160531-5374.

Comments Due: 5 p.m. ET 6/13/16.

Docket Numbers: RP16-996-000.

Applicants: Cameron Interstate Pipeline, LLC.

Description: Compliance filing per 154.203: Cameron Interstate Pipeline, LLC eTariff Clean-Up to be effective 6/1/2016.

Filed Date: 5/31/16.

Accession Number: 20160531-5427.

Comments Due: 5 p.m. ET 6/13/16.

Docket Numbers: RP16-997-000.

Applicants: Enable Mississippi River Transmission, L.

Description: Section 4(d) rate filing per 154.204: Negotiated Rate Filing to Remove LER #5680 Effective 5-1-16 to be effective 5/1/2016.

Filed Date: 5/31/16.

Accession Number: 20160531-5454.

Comments Due: 5 p.m. ET 6/13/16.

Docket Numbers: RP16-998-000.

Applicants: Kinder Morgan Louisiana Pipeline LLC.

Description: Section 4(d) rate filing per 154.403: Periodic Rate Adjustment Filing to be effective 7/1/2016.

Filed Date: 5/31/16.

Accession Number: 20160531-5485.

Comments Due: 5 p.m. ET 6/13/16.

Docket Numbers: RP16-999-000.

Applicants: Northern Natural Gas Company.

Description: Section 4(d) rate filing per 154.204: 20160531 Negotiated Rate to be effective 6/1/2016.

Filed Date: 5/31/16.

Accession Number: 20160531-5500.

Comments Due: 5 p.m. ET 6/13/16.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP16-549-002.

Applicants: PGPipeline LLC.

Description: Compliance filing per 154.203: NAESB 3.0 Compliance Filing to be effective 4/1/2016.

Filed Date: 5/31/16.

Accession Number: 20160531-5607.

Comments Due: 5 p.m. ET 6/13/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2016.
Nathaniel J. Davis, Sr.,
Deputy Secretary.

[FR Doc. 2016-13448 Filed 6-7-16; 8:45 am]

BILLING CODE 6717-01-P